DEPARTMENT OF COMMERCE

National Oceanic and Atmospheric Administration

Proposed Information Collection; Comment Request; Western Alaska Community Development Quota (CDQ) Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 2, 2019.

ADDRESSES: Direct all written comments to Adrienne Thomas, Government Information Specialist, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Gabrielle Aberle, National Marine Fisheries Service, P.O. Box 21668, Juneau, AK 99802-1668. Telephone (907) 586-7228.

SUPPLEMENTARY INFORMATION:

I. Abstract

This request is for revision and extension of a current information collection.

The Western Alaska Community Development Quota (CDQ) Program is an economic development program associated with federally managed fisheries in the Bering Sea and Aleutian Islands (BSAI). The purpose of the program is to provide eligible western Alaska communities with the opportunity to participate and invest in fisheries in the BSAI, to support economic development in western Alaska, to alleviate poverty and provide economic and social benefits to residents of western Alaska, and to achieve sustainable local economies in western Alaska. The Magnuson-Stevens Fishery Conservation and Management Act allocates a portion of the annual catch limit for each directed fishery of the BSAI management area among six non-profit entities (CDQ groups) that represent 65 western Alaska communities. The CDQ groups administer the CDQ allocations, investments, and economic development projects. The CDQ groups use the revenue derived from the harvest of their fisheries allocations to fund economic development activities and provide employment opportunities.

One component, the Annual Statement of Compliance, is being added to this collection. If this revision and extension is approved, this information collection will contain the following forms and components used for managing the CDQ fisheries:

• The Annual Statement of Compliance is a document required under section 305(i)(l)(E)(v) of the Magnuson-Stevens Fishery Conservation and Management Act. Section 305(i)(l)(E)(v) requires that each year each CDQ group, following approval by its board of directors and signed by its chief executive officer, shall submit a written statement to the Secretary of Commerce and the State of Alaska that summarizes the purposes for which it made investments during the preceding year.

• The CDQ Vessel Registration System is an online system used by the CDQ groups to add small hook-and-line catcher vessels to the CDQ vessel registration list. Registered vessels are exempt from the requirements to obtain and carry a License Limitation Program license under regulations at 50 part 679. This system is also used to remove vessels from the CDQ vessel registration list.

• The Groundfish/Halibut CDQ and Prohibited Species Quota (PSQ) Transfer Request form is used to transfer annual amounts of groundfish and halibut CDQ and PSQ, except Bering Sea Chinook salmon, between two CDQ groups. This form is completed by the transferring and receiving CDQ groups.

• The Application for Approval of Use of Non-CDQ Harvest Regulations is used by a CDQ group, an association representing CDQ groups, or a voluntary fishing cooperative to request approval to use non CDQ harvest regulations when the CDQ regulations are more restrictive than the regulations otherwise required for participants in non-CDQ groundfish fisheries.

• An appeals process is provided for an applicant who receives an adverse initial administrative determination (IAD) related to its Application for Approval of Use of Non-CDQ Harvest Regulations. No such adverse IADs have been issued to date.

II. Method of Collection

The CDQ Vessel Registration System is accessed online through eFISH on the NMFS Alaska Region website at https://alaskafisheries.noaa.gov/webapps/efish/login. The Groundfish/Halibut CDQ and PSQ Transfer Request may be submitted through eFISH, or by mail or fax. The Annual Statement of Compliance and the Application for Approval of Use of Non-CDQ Harvest Regulations may be submitted by email, fax, mail, or commercial carrier. Appeals may be submitted by fax, mail, or commercial carrier.

III. Data

OMB Control Number: 0648-0269.

Form Number(s): None.

Type of Review: Regular Submission (Revision of a currently approved collection).

Affected Public: Not-for-profit institutions; Business or other for-profit organizations.

Estimated Number of Respondents: 6.

Estimated Time per Response: 5 minutes to register and 5 minutes to print letter for CDQ Vessel Registration System; 35 minutes for Groundfish/Halibut CDQ and PSQ Transfer Request; 5 hours for Application for Approval of Use of Non-CDQ Harvest Regulations; and 4 hours each for Appeals and the Annual Statement of Compliance.

Estimated Total Annual Burden Hours: 49 hours.

Estimated Total Annual Cost to Public: $8 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-21521 Filed 10-2-19; 8:45 am]

BILLING CODE 3510-22-P